DEPARTMENT OF ENERGY

Federal Energy Regulatory Commission

Combined Notice of Filings #1

June 6, 2007.

Take notice that the Commission received the following electric corporate filings:

Docket Numbers: EC07-39-001.

Applicants: Goldman Sachs Group, Inc.

Description: Goldman Sachs Group, Inc's response to FERC Staff's deficiency letter issued on 2/26/07.

Filed Date: 05/14/2007 & 05/15/2007.

Accession Number: 20070514-5146 & 20070521-0579.

Comment Date: 5 p.m. Eastern Time on Monday, June 25, 2007.

Take notice that the Commission received the following electric rate filings:

Docket Numbers: ER91-569-037.

Applicants: EWO Marketing, LP.

Description: EWO Marketing, LP submits a revised FERC Electric Tariff 3 in conformance with Order 614 pursuant to the April 25, 2007 order.

Filed Date: 05/24/2007.

Accession Number: 20070604-0203.

Comment Date: 5 p.m. Eastern Time on Thursday, June 14, 2007.

Docket Numbers: ER96-2495-029; ER97-4143-017; ER97-1238-024; ER98-2075-023; ER98-542-019.

Applicants: AEP Power Marketing Inc; AEP Service Corporation; AEP Energy Partners, LP; CSW Energy Services, Inc.; Central and South West Services, Inc.

Description: AEP Power Marketing, Inc et al submit a notice of Change in Status in connection with their authority to make sales at negotiated market-based rates.

Filed Date: 05/25/2007.

Accession Number: 20070531-0125.

Comment Date: 5 p.m. Eastern Time on Friday, June 15, 2007.

Docket Numbers: ER99-3426-007.

Applicants: San Diego Gas & Electric Company.

Description: San Diego Gas & Electric Company submits a notice of change in status in connection with a net increase in its generation capacity pursuant to section 35.27(c) of FERC's Regulations.

Filed Date: 05/30/2007.

Accession Number: 20070531-0086.

Comment Date: 5 p.m. Eastern Time on Wednesday, June 20, 2007.

Docket Numbers: ER00-1049-008; ER02-506-008; ER98-2783-011; ER99-3822-011; ER07-841-001; ER01-140-007; ER07-842-001; ER00-1895-009; ER07-843-001; ER07-844-001; ER07-845-001; ER07-846-001; ER99-4160-012; ER01-141-007; ER07-847-001; ER00-3696-008; ER01-943-007; ER05-1266-005; ER01-3109-009; ER01-1044-008; ER99-2157-008; ER02-553-007; ER02-2202-011; ER03-42-012.

Applicants: Bridgeport Energy, LLC; Bluegrass Generation Company, L.L.C.; Calcasieu Power, LLC; Casco Bay Energy Company, LLC; Dynegy Arlington Valley, LLC; Dynegy Danskammer, L.L.C.; Dynegy Kendall Energy, LLC; Dynegy Midwest Generation, Inc.; Dynegy Mohave, LLC; Dynegy Morro Bay, LLC; Dynegy Moss Landing, LLC; Dynegy Oakland, LLC; Dynegy Power Marketing, Inc.; Dynegy Roseton, L.L.C.; Dynegy South Bay, LLC; Griffith Energy LLC; Heard County Power, L.L.C.; Ontelaunee Power Operating Company, LLC; Renaissance Power, L.L.C.; Riverside Generating, L.L.C.; Rocky Road Power, LLC; Rolling Hills Generating, L.L.C.; Sithe Energy Marketing, L.P.; sithe/Independence Power Partners.

Description: Bluegrass Generation Co, LLC's et al CD containing the Workpapers of Julie R Soloman to its Notice of non-material change in status, request to synchronize Triennial Market Power Analysis due dates etc under ER02-506 et al.

Filed Date: 05/31/2007.

Accession Number: 20070531-4019.

Comment Date: 5 p.m. Eastern Time on Thursday, June 21, 2007.

Docket Numbers: ER01-1263-008; ER03-160-007; ER02-900-007; ER02-537-008; ER02-1052-007; ER96-1947-021.

Applicants: Mirant Las Vegas, LLC; Mirant Sugar Creek, LLC; Mirant Zeeland, L.L.C.

Description: Mirant Las Vegas Power Company, LLC et al informs FERC of certain changes in status with respect to the characteristics upon which the Commission previously relied in granting market-based rate authority.

Filed Date: 05/31/2007.

Accession Number: 20070604-0204.

Comment Date: 5 p.m. Eastern Time on Thursday, June 21, 2007.

Docket Numbers: ER04-734-002.

Applicants: Barclays Bank PLC.

Description: Barclays Bank PLC submits its Triennial Updated Market Power Analysis.

Filed Date: 06/01/2007.

Accession Number: 20070605-0192.

Comment Date: 5 p.m. Eastern Time on Friday, June 22, 2007.

Docket Numbers: ER06-451-021; ER06-1467-003.

Applicants: Southwest Power Pool, Inc.

Description: Southwest Power Pool, Inc submits an errata to its 4/2/07 compliance filing.

Filed Date: 05/30/2007.

Accession Number: 20070604-0159.

Comment Date: 5 p.m. Eastern Time on Friday, June 8, 2007.

Docket Numbers: ER06-1367-003; ER07-239-002; ER99-1714-006; ER06-745-002.

Applicants: BG Dighton Power, LLC; BG Energy Merchants, LLC; Lake Road Generating Company, L.P.; MASSPOWER.

Description: BG Dighton Power LLC et al submits a notification of change in status to inform FERC of a non-material departure from the characteristics and on 5/31/07 submits a correction to this filing.

Filed Date: 05/30/2007; 05/31/2007.

Accession Number: 20070601-0094; 20070601-0095.

Comment Date: 5 p.m. Eastern Time on Wednesday, June 20, 2007.

Docket Numbers: ER07-153-002.

Applicants: Ameren Services Company.

Description: Ameren Services Company on behalf of Central Illinois Light Company dba AmerenCILCO et al submits revisions to the Ameren Illinois Operating Companies' Ancillary Services Tariff, effective 1/1/07.

Filed Date: 05/30/2007.

Accession Number: 20070601-0104.

Comment Date: 5 p.m. Eastern Time on Wednesday, June 20, 2007.

Docket Numbers: ER07-445-002.

Applicants: Duke Energy Indiana, Inc.

Description: Duke Energy Corporation submits the Interim Agreement as a supplemental response to the data request from Commission Staff.

Filed Date: 05/31/2007.

Accession Number: 20070604-0202.

Comment Date: 5 p.m. Eastern Time on Thursday, June 21, 2007.

Docket Numbers: ER07-502-001.

Applicants: PacifiCorp.

Description: Refund Report of PacifiCorp submits a Refund Report pursuant to Commission's order issued March 30, 2007.

Filed Date: 05/30/2007.

Accession Number: 20070530-5036.

Comment Date: 5 p.m. Eastern Time on Wednesday, June 20, 2007.

Docket Numbers: ER07-641-001.

Applicants: Puget Sound Energy, Inc.

Description: Puget Sound Energy, Inc submits substitute sheets that designates their rate schedule for reactive power service from the Goldendale Facility as Rate Schedule 425.

Filed Date: 05/31/2007.

Accession Number: 20070604-0214.

Comment Date: 5 p.m. Eastern Time on Thursday, June 21, 2007.

Docket Numbers: ER07-717-001.

Applicants: Entergy Services, Inc.

Description: Entergy Services Inc submits an Amendment to its 4/5/07 notice of adoption of revised North American Electric Reliability Council's Transmission Loading Relief Procedures.

Filed Date: 05/30/2007.

Accession Number: 20070601-0100.

Comment Date: 5 p.m. Eastern Time on Friday, June 8, 2007.

Docket Numbers: ER07-764-001.

Applicants: Duke Energy Carolinas, LLC.

Description: Duke Energy Carolinas, LLC submits a compliance filing correcting the designation of its rate schedule in accordance with Order No. 614.

Filed Date: 05/14/2007.

Accession Number: 20070514-5084.

Comment Date: 5 p.m. Eastern Time on Thursday, June 14, 2007.

Docket Numbers: ER07-829-001.

Applicants: MidAmerican Energy Company.

Description: MidAmerican Energy Company submits the corrected Confirmation Letter and requests that it replace the Confirmation Letter dated 4/27/07.

Filed Date: 05/30/2007.

Accession Number: 20070601-0099.

Comment Date: 5 p.m. Eastern Time on Friday, June 8, 2007.

Docket Numbers: ER07-953-000.

Applicants: Pacific Gas and Electric Company.

Description: Pacific Gas and Electric Company submits a newly executed Generator Special Facilities Agreement in accordance with section 205(d) of the FPA.

Filed Date: 05/25/2007.

Accession Number: 20070531-0170.

Comment Date: 5 p.m. Eastern Time on Friday, June 15, 2007.

Docket Numbers: ER07-955-000.

Applicants: Southern California Edison Company.

Description: Southern California Edison Co. submits an explanatory Statement to its Settlement Agreement w/Los Angeles Department of Water & Power and on 6/1/06 submits an errata to this filing.

Filed Date: 05/29/2007; 06/01/07.

Accession Number: 20070531-0171.

Comment Date: 5 p.m. Eastern Time on Tuesday, June 19, 2007.

Docket Numbers: ER07-956-000.

Applicants: Entergy Services, Inc.

Description: Entergy Operating Companies submits rates to implement the decision of the Commission as contained in Opinion 480 and 480-A and the 5/25/07 Order.

Filed Date: 05/29/2007.

Accession Number: 20070531-0240.

Comment Date: 5 p.m. Eastern Time on Tuesday, June 19, 2007.

Docket Numbers: ER07-957-000.

Applicants: Southern Power Company.

Description: Southern Power Co submits a application seeking authorization to make market-based rate wholesale power sales to its affiliate Gulf Power Co.

Filed Date: 05/30/2007.

Accession Number: 20070601-0041.

Comment Date: 5 p.m. Eastern Time on Wednesday, June 20, 2007.

Docket Numbers: ER07-959-000.

Applicants: Wolverine Power Supply Cooperative, Inc.

Description: Wolverine Power Supply Cooperative, Inc submits a notice of cancellation of its Open Access Transmission Tariff.

Filed Date: 05/30/2007.

Accession Number: 20070601-0083.

Comment Date: 5 p.m. Eastern Time on Wednesday, June 20, 2007.

Docket Numbers: ER07-960-000.

Applicants: Wolverine Power Supply Cooperative, Inc.

Description: Wolverine Power Supply Cooperative, Inc submits an executed Wholesale Distribution Service Agreement with Tower Kleber Limited Partnership.

Filed Date: 05/30/2007.

Accession Number: 20070601-0082.

Comment Date: 5 p.m. Eastern Time on Wednesday, June 20, 2007.

Docket Numbers: ER07-961-000.

Applicants: MASSPOWER.

Description: MASSPOWER submits an amendment to its market-based rate schedule, FERC Electric Tariff 1, pursuant to Order 671.

Filed Date: 05/30/2007.

Accession Number: 20070601-0081.

Comment Date: 5 p.m. Eastern Time on Wednesday, June 20, 2007.

Docket Numbers: ER07-962-000.

Applicants: Westar Energy, Inc.

Description: Westar Energy, Inc submits Service Agreement 192 to FERC Electric Tariff, Third Revised Volume 6 with the City of Wathena, Kansas.

Filed Date: 05/30/2007.

Accession Number: 20070601-0080.

Comment Date: 5 p.m. Eastern Time on Wednesday, June 20, 2007.

Docket Numbers: ER07-963-000.

Applicants: Westar Energy, Inc.

Description: Westar Energy, Inc submits Service Agreement 193 under its FERC Electric Tariff, Third Revised Volume 6 with the City of Iola, Kansas.

Filed Date: 05/30/2007.

Accession Number: 20070601-0079.

Comment Date: 5 p.m. Eastern Time on Wednesday, June 20, 2007.

Docket Numbers: ER07-964-000.

Applicants: UNS Electric, Inc.

Description: UNS Electric Inc submits a Market-Based Rate Tariff for the sale of electric energy and capacity etc.

Filed Date: 05/30/2007.

Accession Number: 20070601-0078.

Comment Date: 5 p.m. Eastern Time on Wednesday, June 20, 2007.

Docket Numbers: ER07-965-000.

Applicants: EnergyCo Marketing and Trading, LLC.

Description: EnergyCo LLC submits a Market Based Rate Tariff for sale of electric energy, capacity, ancillary services, and firm transmission rights, etc.

Filed Date: 05/30/2007.

Accession Number: 20070601-0077.

Comment Date: 5 p.m. Eastern Time on Wednesday, June 20, 2007.

Docket Numbers: ER07-966-000.

Applicants: Allegheny Energy Supply Company, LLC.

Description: Allegheny Energy Supply Co submits a petition requesting authorization to make wholesale power sales to its affiliate, The Potomac Edison Co.

Filed Date: 05/30/2007.

Accession Number: 20070601-0085.

Comment Date: 5 p.m. Eastern Time on Wednesday, June 20, 2007.

Docket Numbers: ER07-967-000.

Applicants: Pacific Gas and Electric Company.

Description: Pacific Gas and Electric Company submits an unexecuted amended Owners Coordinated Operation Agreement among itself and Southern California Edison Company et al.

Filed Date: 05/31/2007.

Accession Number: 20070601-0122.

Comment Date: 5 p.m. Eastern Time on Thursday, June 21, 2007.

Docket Numbers: ER07-968-000.

Applicants: Pacific Gas and Electric Company.

Description: Pacific Gas and Electric Company submits a Certificate of Concurrence to its 5/31/07 filing of an amendment to the 12/1/95 Interconnection Agreement with PacifiCorp designated as Rate Schedule 195.

Filed Date: 05/31/2007.

Accession Number: 20070601-0121.

Comment Date: 5 p.m. Eastern Time on Thursday, June 21, 2007.

Docket Numbers: ER07-969-000.

Applicants: Pacific Gas and Electric Company.

Description: Pacific Gas and Electric Company on behalf of Southern California Edison Company et al. submits a notice of cancellation of FERC Rate Schedule 38 et al.

Filed Date: 05/31/2007.

Accession Number: 20070601-0120.

Comment Date: 5 p.m. Eastern Time on Thursday, June 21, 2007.

Docket Numbers: ER07-970-000.

Applicants: Midwest Independent Transmission System Operator, Inc.

Description: Midwest Independent Transmission System Operator, Inc submits a Large Generator Interconnection Agreement with American Transmission Company, LLC et al.

Filed Date: 05/31/2007.

Accession Number: 20070601-0076.

Comment Date: 5 p.m. Eastern Time on Thursday, June 21, 2007.

Docket Numbers: ER07-971-000.

Applicants: Puget Sound Energy, Inc.

Description: Puget Sound Energy, Inc submits a Generator Imbalance Service Agreement with Pacific Industries, Inc pursuant to 18 CFR Part 35 and section 205 of the Federal Power Act etc.

Filed Date: 05/31/2007.

Accession Number: 20070601-0075.

Comment Date: 5 p.m. Eastern Time on Thursday, June 21, 2007.

Docket Numbers: ER07-972-000.

Applicants: New England Power Pool Participants Committee.

Description: New England Power Pool Participants Committee submits this transmittal letter along with counterpart signature pages dated as of September 1, 1971.

Filed Date: 05/31/2007.

Accession Number: 20070601-0074.

Comment Date: 5 p.m. Eastern Time on Thursday, June 21, 2007.

Docket Numbers: ER07-973-000.

Applicants: PacifiCorp.

Description: PacifiCorp submits an Amendment to the 12/1/95 Interconnection Agreement with Pacific Gas and Electric Company pursuant to Section 205 of the Federal Power Act, U.S.C. 824d and Part 35 of FERC's Regulations.

Filed Date: 05/31/2007.

Accession Number: 20070604-0206.

Comment Date: 5 p.m. Eastern Time on Thursday, June 21, 2007.

Docket Numbers: ER07-974-000.

Applicants: Wisconsin Electric Power Company.

Description: Wisconsin Electric Power Company submits a fully-executed Wholesale Distribution Service Agreement with the City of Norway, Michigan pursuant to Section 35.12 of the Commission's Regulations.

Filed Date: 05/31/2007.

Accession Number: 20070604-0208.

Comment Date: 5 p.m. Eastern Time on Thursday, June 21, 2007.

Docket Numbers: ER07-975-000.

Applicants: Wisconsin Electric Power Company.

Description: Wisconsin Electric Power Company submits its proposed amendments to its Metering Service Agreement with Wisconsin Public Power Inc pursuant to Section 205 of the Federal Power Act etc.

Filed Date: 05/31/2007.

Accession Number: 20070604-0209.

Comment Date: 5 p.m. Eastern Time on Thursday, June 21, 2007.

Docket Numbers: ER07-976-000.

Applicants: Southern California Edison Company.

Description: Southern California Edison Co submits a Notice of Cancellation of the Amended and Restated Edison-PG&E Transmission Agreement (Rate Schedule 256).

Filed Date: 05/31/2007.

Accession Number: 20070604-0207.

Comment Date: 5 p.m. Eastern Time on Thursday, June 21, 2007.

Docket Numbers: ER07-977-000.

Applicants: Southern California Edison Compan.

Description: Southern California Edison Co submits the Banning Substation Third Line Wholesale Distribution Load Interconnection Facilities Agreement with the City of Banning, CA.

Filed Date: 05/31/2007.

Accession Number: 20070604-0210.

Comment Date: 5 p.m. Eastern Time on Thursday, June 21, 2007.

Docket Numbers: ER07-978-000.

Applicants: Southern California Edison Company.

Description: Southern California Edison Company submits the Amended and Restated Midway Interconnection Agreement w/ Pacific Gas and Electric Company pursuant to Section 35.13 of FERC's Regulations etc.

Filed Date: 05/31/2007.

Accession Number: 20070604-0211.

Comment Date: 5 p.m. Eastern Time on Thursday, June 21, 2007.

Docket Numbers: ER07-979-000.

Applicants: Westar Energy, Inc.

Description: Westar Energy, Inc submits the Second Revised Sheet 1 and First revised Sheet 4 to their First Revised Rate Schedule 234.

Filed Date: 05/31/2007.

Accession Number: 20070604-0213.

Comment Date: 5 p.m. Eastern Time on Thursday, June 21, 2007.

Docket Numbers: ER07-980-000.

Applicants: Xcel Energy Operating Companies.

Description: Xcel Energy Services Inc on behalf of Southwestern Public Service Co submits copies of a Connection Agreement with Golden Spread Electric Cooperative, Inc pursuant to Part 35 of FERC's Rules and Regulations.

Filed Date: 05/31/2007.

Accession Number: 20070604-0212.

Comment Date: 5 p.m. Eastern Time on Thursday, June 21, 2007.

Docket Numbers: ER07-981-000.

Applicants: Barclays Capital Energy Inc.

Description: Barclays Capital Energy Inc submits an application for order accepting Initial Rate Schedule, waiving regulations, and granting blanket approvals.

Filed Date: 06/01/2007.

Accession Number: 20070605-0190.

Comment Date: 5 p.m.Eastern Time on Friday, June 22, 2007.

Docket Numbers: ER07-982-000.

Applicants: American Electric Power Service Corporation.

Description: American Electric Power Services Corporation designated agent for AEP Operating Companies submits and requests acceptance of Second Revised Interconnection and Local Delivery Service Agreement 1427 etc.

Filed Date: 06/01/2007.

Accession Number: 20070605-0189.

Comment Date: 5 p.m. Eastern Time on Friday, June 22, 2007.

Docket Numbers: ER07-983-000.

Applicants: Westar Energy, Inc.

Description: Westar Energy Inc submits Service Agreement 194 under its FERC Electric Tariff, Third Revised Volume 6, Wholesale Electric Energy and Capacity Agreement with the City of Scranton, Kansas.

Filed Date: 05/31/2007.

Accession Number: 20070605-0187.

Comment Date: 5 p.m. Eastern Time on Thursday, June 21, 2007.

Docket Numbers: ER07-984-000.

Applicants: Entergy Gulf States, Inc.

Description: Entergy Gulf States Inc submits an executed version of an amended and conformed Power Sales Agreement for the Toledo Bend Project with Sabine River Authority et al.

Filed Date: 05/31/2007.

Accession Number: 20070605-0188.

Comment Date: 5 p.m. Eastern Time on Thursday, June 21, 2007.

Docket Numbers: ER07-985-000.

Applicants: Entergy Services, Inc.

Description: Entergy Services Inc on behalf of Entergy Operating Companies submits an amendment to the Entergy System Agreement under ER07-985.

Filed Date: 05/30/2007.

Accession Number: 20070605-0186.

Comment Date: 5 p.m. Eastern Time on Wednesday, June 20, 2007.

Docket Numbers: ER07-986-000.

Applicants: Bangor Hydro-Electric Company.

Description: Bangor Hydro-Electric Co submits proposed revisions to its local service schedule set forth as Schedule 21-BHE in the ISO New England Inc Transmission, Markets and Services Tariff.

Filed Date: 05/31/2007.

Accession Number: 20070605-0185.

Comment Date: 5 p.m. Eastern Time on Thursday, June 21, 2007.

Docket Numbers: ER07-987-000.

Applicants: K Road BG Management LLC.

Description: K Road BG Management, LLC submits Notice of Cancellation of their market based rate tariff, FERC Electric Tariff 1, effective 6/1/07.

Filed Date: 05/31/2007.

Accession Number: 20070605-0184.

Comment Date: 5 p.m. Eastern Time on Thursday, June 21, 2007.

Docket Numbers: ER07-989-000.

Applicants: Southwest Power Pool, Inc.

Description: Southwest Power Pool, Inc submits an executed Service Agreement for Network Integration Transmission Service with Oklahoma Municipal Power Authority under ER07-989.

Filed Date: 05/31/2007.

Accession Number: 20070605-0201.

Comment Date: 5 p.m. Eastern Time on Thursday, June 21, 2007.

Docket Numbers: ER07-990-000.

Applicants: American Transmission Company LLC.

Description: American Transmission Company, LLC submits an executed Distribution Interconnection Agreement with Kiel Electric Utility dated as of 5/16/07 pursuant to Part 35 of the Commission's Regulations.

Filed Date: 05/31/2007.

Accession Number: 20070605-0182.

Comment Date: 5 p.m. Eastern Time on Thursday, June 21, 2007.

Docket Numbers: ER07-991-000.

Applicants: American Transmission Company LLC.

Description: American Transmission Co, LLC submits an executed Distribution-Transmission Interconnection Agreement with Sauk City Utilities dated as of 5/16/07.

Filed Date: 05/31/2007.

Accession Number: 20070605-0202.

Comment Date: 5 p.m. Eastern Time on Thursday, June 21, 2007.

Docket Numbers: ER07-992-000.

Applicants: Golden Spread Electric Cooperative, Inc.

Description: Golden Spread Electric Cooperative, Inc submits its Seventh Informational Filing setting forth updated fixed costs associated with rates charged for sales of replacement energy pursuant to Rate Schedule 35 etc.

Filed Date: 06/01/2007.

Accession Number: 20070605-0181.

Comment Date: 5 p.m. Eastern Time on Friday, June 22, 2007.

Docket Numbers: ER07-993-000.

Applicants: Midwest Independent Transmission System Operator, Inc.

Description: Midwest Independent Transmission System Operator, Inc submits an Amended and Restated Large Generator Interconnection Agreement with Forward Energy, LLC et al.

Filed Date: 06/01/2007.

Accession Number: 20070605-0203.

Comment Date: 5 p.m. Eastern Time on Friday, June 22, 2007.

Docket Numbers: ER07-994-000.

Applicants: Pacific Gas and Electric Company.

Description: Pacific Gas and Electric Company submits a Notice of Cancellation of Rate Schedule 148, the Transmission Service Exchange Agreement with the City of Vernon.

Filed Date: 05/31/2007.

Accession Number: 20070605-0107.

Comment Date: 5 p.m. Eastern Time on Thursday, June 21, 2007.

Take notice that the Commission received the following electric reliability filings:

Docket Numbers: RR07-9-001; RR07-10-001.

Applicants: North American Electric Reliability Corp.

Description: Compliance Filing of the North American Electric Reliability Corporation in Response to Paragraphs 42, 44 and 45 of May 18, 2007 Order—Submission of Revised Violation Risk Factors for Approved Reliability Standards.

Filed Date: 06/01/2007.

Accession Number: 20070601-5055.

Comment Date: 5 p.m. Eastern Time on Monday, July 2, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-11642 Filed 6-15-07; 8:45 am]

BILLING CODE 6717-01-P